DEPARTMENT OF COMMERCE

National Oceanic and Atmospheric Administration

[I.D. 091404J]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council or MAFMC), its Tilefish Committee; its Squid, Mackerel, Butterfish Committee; its Ecosystem Committee; its Joint Dogfish Committee; its Law Enforcement Committee; and, its Executive Committee will hold public meetings.

DATES: The meetings will be held on Monday, October 4, 2004 through Thursday, October 7, 2004. See SUPPLEMENTARY INFORMATION for specific dates and times.

ADDRESSES: The meetings will be at the Holiday Inn, 3845 Veterans Memorial Highway, Ronkonkoma, NY 11779; telephone: 631-585-9500.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION:

Monday, October 4, 2004

12 noon to 1 p.m., the Tilefish Committee will meet.

1 p.m. to 3 p.m., the Squid, Mackerel, Butterfish Committee will meet.

3 p.m. to 5:30 p.m., the Joint Dogfish Committee and the Ecosystem Committee will meet concurrently.

Tuesday, October 5, 2004

8 a.m. to 9 a.m., the Law Enforcement Committee will meet.

9 a.m., the Council will convene.

9 a.m. to 9:15 a.m., election of Council Officers will be held.

9:15 a.m. to 12 noon, dogfish specifications setting will take place.

1 p.m. to 5 p.m., a Research Set-Aside (RSA) Workshop will be held.

7 p.m. to 8:30 p.m., Research Set-Aside (RSA) Workshop continues.

Wednesday, October 6, 2004

8:30 a.m., Council will convene.

8:30 a.m. to 11 a.m., Council will meet to approve the August Council meeting minutes and receive various organizational reports, Council liaison reports, the Executive Director's report, and report on the status of fishery management plans.

11 a.m. to 2 p.m., Monkfish Amendment 2 will be reviewed and discussed.

2 p.m. to 5:30 p.m., priorities for Summer Flounder, Scup, and Black Sea Bass plan actions in conjunction with the Atlantic States Marine Fisheries Commission's (ASMFC) Summer Flounder, Scup, and Black Sea Bass Board will be developed.

5:30 p.m. to 7:30 p.m., the ASMFC will hold a Summer Flounder, Scup, and Black Sea Bass Board meeting to approve Summer Flounder, Scup, and Black Sea Bass FMP addenda, including the allocation of quotas and timing of management measures.

7:30 p.m. to 9 p.m., a Public Hearing will be held from regarding the South Atlantic Fishery Management Council's (SAFMC) King Mackerel Amendment 15.

Thursday, October 7, 2004

8 a.m. to 9 a.m., the Executive Committee will meet.

9 a.m. to 9:45 a.m., Council will convene and review the SAFMC's King Mackerel Amendment 15.

9:45 a.m. to 10:30 a.m., Council will receive a presentation on the Long Island Wind Energy Proposal.

Council will then meet until 2 p.m. to receive Committee reports and address any continuing and/or new business.

Agenda items for the Council's committees and the Council itself are: On October 4, meeting of Tilefish Committee to address and discuss considerations regarding Amendment 1; meeting of the Squid, Mackerel, Butterfish Committee to finalize the public hearing document for Amendment 9; meeting of the Ecosystem Committee to review and discuss outcomes from the NMFS initiated meetings and workshops on GIS, survey instruments and management tools; and, meeting of the Joint Dogfish Committee to review the Monitoring Committee's recommendations regarding 2005/06 fishing year quota and associated management measures, and to develop and adopt recommended quota and management measures for 2005/06 fishing year and set specifications for the same.

On October 5, meeting of the Law Enforcement Committee to address and recommend Council Fishery Achievement Award recipient; Council will elect officers for the new year; approve and adopt Dogfish Management measures for 2005/06; and, conduct a RSA Workshop with the ASMFC and NMFS to review, discuss and establish RSA priorities for 2006 and project selection criteria for 2006.

On October 6, the Council will receive organizational reports, liaison reports, and internal staff reports; review and approve Monkfish Amendment 2 for submission to the Secretary and discuss New England Fishery Management Council's (NEFMC) actions regarding Amendment 2 issues directly impacting the MAFMC such as permits for North Carolina fishermen, closure of deep sea corals and effects of DAS usage for multispecies and scallops; in conjunction with the ASMFC Summer Flounder, Scup, and Black Sea Bass Board, Council will develop 2005 priorities for Summer Flounder, Scup and Black Sea Bass, and will review the outcome of the ASMFC's September workshop on the same.

On October 7, the Executive Committee will meet to review the 2005 annual work plan, discuss committee structures, and address staff benefits; the Council will review and discuss the SAFMC's King Mackerel Amendment 15; and hear a presentation on the Long Island Wind Energy Proposal; receive committee reports; and, act on any new and/or continuing business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to Debbie Donnangelo (302-674-2331) at least 5 days prior to the meeting date.

Dated: September 15, 2004.
Alan D. Risenhoover,
Acting Director, Office of Sustainable Fisheries, National Marine Fisheries Service.

[FR Doc. E4-2240 Filed 9-17-04; 8:45 am]

BILLING CODE 3510-22-S